DEPARTMENT OF VETERANS AFFAIRS

Research Advisory Committee on Gulf War Veterans' Illnesses; Notice of Meeting

The Department of Veterans Affairs (VA) gives notice under Public Law 92-463 (Federal Advisory Committee Act) that the Research Advisory Committee on Gulf War Veterans' Illnesses will meet on February 28-March 1, 2011. On February 28, the meeting will be held in room 230 at the Department of Veterans Affairs, 810 Vermont Avenue, NW., Washington, DC, from 8 a.m. until 3:15 p.m. On March 1, the meeting will be held in room 1143 of the Lafayette Building, 811 Vermont Avenue, NW., Washington, DC, from 8 a.m. until 1:30 p.m. The meeting is open to the public.

The purpose of the Committee is to provide advice and make recommendations to the Secretary of Veterans Affairs on proposed research studies, research plans and research strategies relating to the health consequences of military service in the Southwest Asia theater of operations during the Gulf War.

The Committee will review VA program activities related to Gulf War Veterans' illnesses and updates on relevant scientific research published since the last Committee meeting. The session on February 28 will include remarks and discussion with two panels (Veterans Service Organization representatives and Gulf War Veterans) in honor of the 20th anniversary of the 1990-1991 Gulf War. There will also be a panel discussion with the members of the VA Gulf War Steering Committee and VA researchers. On both days of the meeting, there will be presentations on ongoing VA, Department of Defense Congressionally Directed Medical Research Program, and National Institute for Health research programs. The session on March 1 will include discussion of Committee business and activities.

Public comments will be received on March 1, at 1 p.m. A sign-up sheet for five-minute comments will be available at the meeting. Individuals who speak are invited to submit a 1-2 page summary of their comments at the time of the meeting for inclusion in the official meeting record. Members of the public may also submit written statements for the Committee's review to Dr. Roberta White at rwhite@bu.edu.

Any member of the public seeking additional information should contact Dr. Roberta White, Scientific Director, at (617) 278-4517 or Dr. William Goldberg, Designated Federal Officer, at (202) 461-1667.

Dated: February 11, 2011.
By Direction of the Secretary.
William F. Russo,
Director of Regulations Management, Office of the General Counsel.

[FR Doc. 2011-3559 Filed 2-16-11; 8:45 am]

BILLING CODE 8320-01-P